DEPARTMENT OF HEALTH AND HUMAN SERVICES

National Institutes of Health

National Institute of Diabetes and Digestive and Kidney Diseases; Amended Notice of Meeting

Notice is hereby given of a change in the meeting of the National Diabetes and Digestive and Kidney Diseases Advisory Council, May 12, 2021, 10:00 a.m. to May 13, 2021, 01:45 p.m., National Institutes of Health, Two Democracy Plaza, 6707 Democracy Boulevard, Bethesda, MD, 20892 which was published in the Federal Register on December 28, 2020, 85 FR 84358.

This notice is being amended to change the meeting time from 10:00 a.m.-1:15 p.m. on May 12, 2021 to 10:00 a.m.-3:00 p.m. on May 12, 2021. The meeting is to the public.

Dated: March 18, 2021.
Miguelina Perez,
Program Analyst, Office of Federal Advisory Committee Policy.

[FR Doc. 2021-06020 Filed 3-23-21; 8:45 am]

BILLING CODE 4140-01-P